DEPARTMENT OF THE INTERIOR

National Park Service

[N6323; NPS-WASO-NAGPRA-NPS0040512; PPWOCRADN0-PCU00RP14.R50000]

Notice of Inventory Completion: U.S. Department of the Interior, Bureau of Indian Affairs, Washington, DC, and S'edav Va'aki Museum, City of Phoenix

AGENCY: National Park Service, Interior.

ACTION: Notice.

SUMMARY: In accordance with the Native American Graves Protection and Repatriation Act (NAGPRA), the U.S. Department of the Interior, Bureau of Indian Affairs (BIA) and the S'edav Va'aki Museum, City of Phoenix have completed an inventory of human remains and associated funerary objects and has determined that there is a cultural affiliation between the human remains and associated funerary objects and Indian Tribes or Native Hawaiian organizations in this notice.

DATES: Repatriation of the human remains and associated funerary objects in this notice may occur on or after August 27, 2025.

ADDRESSES: Send written requests for repatriation of the human remains and associated funerary objects in this notice to Lindsey Vogel-Teeter, S'edav Va'aki Museum, 4619 East Washington Street, Phoenix, AZ 85034, email lindsey.vogel-teeter@phoenix.gov.

SUPPLEMENTARY INFORMATION: This notice is published as part of the National Park Service's administrative responsibilities under NAGPRA. The determinations in this notice are the sole responsibility of the BIA and S'edav Va'aki Museum and additional information on the determinations in this notice, including the results of consultation, can be found in its inventory or related records. The National Park Service is not responsible for the determinations in this notice.

Abstract of Information Available

Human remains representing, at least, one individual have been identified. The six associated funerary objects are four twined basketry fragments, one braided cordage fragment, and one lot of faunal bone. Around 1951, human remains and associated funerary items were removed from a “cave east of pyramids on east side of lake” in Pyramid Lake within the Pyramid Lake Reservation, Washoe County, Nevada by an unknown individual. These human remains and cultural items were found in the collection of the Museum around 1996. The human remains are represented by human hair which was previously identified as an “object” in a 2022 summary letter, and they have been reclassified as human remains in compliance with changes to the NAGPRA regulations.

Cultural Affiliation

Based on the information available and the results of consultation, cultural affiliation is clearly identified by the information available about the human remains and associated funerary objects described in this notice.

Determinations

The BIA and the S'edav Va'aki Museum have determined that:

• The human remains described in this notice represent the physical remains of one individual of Native American ancestry.

• The six objects described in this notice are reasonably believed to have been placed intentionally with or near individual human remains at the time of death or later as part of the death rite or ceremony.

• There is a connection between the human remains and associated funerary objects described in this notice and the Pyramid Lake Paiute Tribe of the Pyramid Lake Reservation, Nevada.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 27, 2025. If competing requests for repatriation are received, the BIA and the S'edav Va'aki Museum must determine the most appropriate requestor prior to repatriation. Requests for joint repatriation of the human remains and associated funerary objects are considered a single request and not competing requests. The BIA and the S'edav Va'aki Museum are responsible for sending a copy of this notice to the Indian Tribes and Native Hawaiian organizations identified in this notice and any other consulting parties.

Authority: Native American Graves Protection and Repatriation Act, 25 U.S.C. 3003, and the implementing regulations, 43 CFR 10.10.

Dated: July 1, 2025.
Melanie O'Brien,
Manager, National NAGPRA Program.

[FR Doc. 2025-14162 Filed 7-25-25; 8:45 am]

BILLING CODE 4312-52-P